FEDERAL COMMUNICATIONS COMMISSION

47 CFR Part 73

[DA 06-269; MB Docket No. 04-433, RM-11122]

Radio Broadcasting Services; Grand Portage, MN

AGENCY: Federal Communications Commission.

ACTION: Final rule.

SUMMARY: The Audio Division, at the request of Cook County Broadcasting of Minnesota, allots Channel 224C at Grand Portage, Minnesota, as the community's second local FM service. Channel 224C can be allotted to Grand Portage, Minnesota, in compliance with the Commission's minimum distance separation requirements at city reference coordinates without site restriction. The coordinates for Channel 224C at Grand Portage, Minnesota, are 47-57-50 North Latitude and 89-41-05 West Longitude. The Government of Canada has concurred in this allotment, which is located within 320 kilometers (199 miles) of the U.S.-Canadian border.

DATES: Effective Date: March 23, 2006.

FOR FURTHER INFORMATION CONTACT: Deborah Dupont, Media Bureau, (202) 418-2180.

SUPPLEMENTARY INFORMATION: This is a synopsis of the Commission's Report and Order, MB Docket No. 04-433, adopted February 2, 2006, and released February 6, 2006. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Minnesota, is amended by adding Channel 224C at Grand Portage.

Federal Communications Commission.
John A. Karousos,
Assistant Chief, Audio Division, Media Bureau.

[FR Doc. 06-1671 Filed 2-22-06; 8:45 am]

BILLING CODE 6712-01-P